DEPARTMENT OF HEALTH AND HUMAN SERVICES

Administration for Children and Families

Delegation of Authority

Notice is hereby given that I have delegated to the Assistant Secretary for Children and Families, with the authority to redelegate to the Commissioner, Administration on Developmental Disabilities, which may be further redelegated, the following authority vested in the Secretary of Health and Human Services.

Authority Delegated

Authority to administer the Developmental Disabilities Assistance and Bill of Rights Act of 2000, (The Act), Pub. L. 106-402, 114 Stat. 1677 (2000), 42 U.S.C. 15001 et seq., and as amended, hereafter.

Limitations

1. This delegation shall be exercised under the Department's existing delegation and policy on regulations.

2. This delegation shall be exercised under financial and administrative requirements applicable to all Administration for Children and Families authorities.

3. I hereby affirm and ratify any actions taken by the Assistant Secretary for Children and Families, or any other Administration for Children and Families officials, which, in effect, involved the exercise of this authority prior to the effective date of this delegation.

Effect on Existing Delegations

This delegation supersedes the memorandum dated August 20, 1991, “Delegation of Authority for the Developmental Disabilities Program,” which was published at 56 FR 42332-42354, dated August 27, 1991.

Effective Date

This delegation is effective immediately.

Dated: February 9, 2004.
Tommy G. Thompson,
Secretary, Department of Health and Human Services.

[FR Doc. 04-3445 Filed 2-17-04; 8:45 am]

BILLING CODE 4184-01-M